DEPARTMENT OF DEFENSE

Department of the Air Force

32 CFR Part 807

[Docket ID: USAF-2018-HQ-0010]

RIN 0701-AA83

Sale to the Public

AGENCY: Department of the Air Force, DoD.

ACTION: Final rule.

SUMMARY: This final rule removes the Department of the Air Force's regulation concerning how Air Force units process requests to purchase Air Force Publications and Forms. This rule is internal and does not direct how the public requests publications or forms. The rule is also obsolete. It was originally published in the early 1990's prior to the Air Force establishing a public website (2003) that provided electronic versions of publications to the public free of charge. Therefore, this part can be removed from the CFR.

DATES: This rule is effective on February 21, 2019.

FOR FURTHER INFORMATION CONTACT: Phillip Canterbury at 202-404-2404.

SUPPLEMENTARY INFORMATION: It has been determined that publication of this CFR part removal for public comment is impracticable, unnecessary, and contrary to public interest because it is based on removing content which directs internal procedures and has been made obsolete by the development of the publication website. The Air Force Publications and Forms referenced in this part, and other internal Air Force policies are available on the Air Force's online publication site (http://www.e-publishing.af.mil/).

This rule is not significant under Executive Order (E.O.) 12866, Sec 3, “Regulatory Planning and Review,” therefore; E.O. 13771, “Reducing Regulation and Controlling Regulatory Costs” does not apply.

List of Subjects in 32 CFR Part 807

Government publications.

PART 807—[REMOVED]

Accordingly, by the authority of 5 U.S.C. 301, 32 CFR part 807 is removed.

Henry Williams,
Acting Air Force Federal Register Liaison Officer.

[FR Doc. 2019-02940 Filed 2-20-19; 8:45 am]

BILLING CODE 5001-10-P